DEPARTMENT OF COMMERCE

National Environmental Policy Act; Proposed Implementing Procedures and Categorical Exclusions

AGENCY: National Institute of Standards and Technology, Department of Commerce.

ACTION: Notice; request for comments.

SUMMARY: Federal agencies are required to develop procedures to implement the National Environmental Policy Act (NEPA) and the Council on Environmental Quality (CEQ) regulations implementing NEPA. Consistent with these requirements, the National Institute of Standards and Technology (NIST) is proposing new NEPA implementing procedures (NEPA Procedures), including the establishment of new categorical exclusions (CEs) as part of its NEPA Procedures. CEs are categories of actions that an agency has determined normally do not have a significant effect on the human environment, individually or in the aggregate. CEs are a form of review that agencies use to comply with NEPA for proposed actions that normally have no or minimal environmental effects. NIST requests the views of the public on its draft NEPA Procedures as well as its substantiation record for the proposed CEs.

DATES: Submit written comments on or before January 10, 2025.

ADDRESSES: The draft NEPA Procedures and CE substantiation record are available for review at https://www.nist.gov/chips/national-environmental-policy-act-nepa. Submit all electronic public comments via email to CHIPSNEPA@chips.gov citing “NEPA Procedures” in the subject line. NIST will accept comments in attached Word or PDF formats or within the body of the email.

Comments sent by any other method, to any other address or individual, or received after the end of the comment period, may not be considered by NIST. All comments received are a part of the public record; commenters should not include personal identifying information (e.g., name, address, etc.), confidential business information, or otherwise sensitive information. NIST will accept anonymous comments. The most helpful comments include a specific recommendation, explain the reason for any recommended change, and provide supporting information. NIST will consider all relevant comments received on or before the closing date.

FOR FURTHER INFORMATION CONTACT: David Frenkel, NIST, telephone number 240-204-1960, email David.Frenkel@chips.gov.

SUPPLEMENTARY INFORMATION:

Legal Framework

The National Environmental Policy Act (NEPA), 42 U.S.C. 4321 et seq., requires Federal agencies to consider the environmental effects of their proposed actions in their decision-making processes and inform and engage the public in that process. Section 101(a) of NEPA sets forth a national policy to use all practicable means and measures, including financial and technical assistance, in a manner calculated to foster and promote the general welfare, to create and maintain conditions under which humans and nature can exist in productive harmony, and fulfill the social, economic, and other requirements of present and future generations of Americans. 42 U.S.C. 4331(a). Section 102 of NEPA directs agencies to interpret and administer Federal policies, regulations and laws consistent with NEPA's policies. 42 U.S.C. 4332.

NEPA also created the Council on Environmental Quality (CEQ), which has issued regulations implementing NEPA, 40 CFR parts 1500 through 1508 (CEQ regulations). CEQ also has issued numerous guidance documents to facilitate agency implementation of NEPA. See CEQ, CEQ Guidance Documents, https://ceq.doe.gov/guidance/guidance.html.

To comply with NEPA, agencies determine the appropriate level of review of any major Federal action—an environmental impact statement (EIS), environmental assessment (EA), or categorical exclusion (CE). 40 CFR 1501.3. If a proposed action is likely to have significant environmental effects, the agency must prepare an EIS and document its decision in a record of decision. 40 CFR 1501.3(c)(3), part 1502, 1505.2. If the proposed action is not likely to have significant environmental effects or the effects are unknown, the agency may instead prepare an EA, which is a concise public document used to support agency decision making. 40 CFR 1501.3(c)(2), 1501.5, 1508.1(j). After completing the analysis in the EA, the agency may conclude that the action will have no significant effects and document that conclusion in a finding of no significant impact, or conclude that the action is likely to have significant effects and therefore requires preparation of an EIS. 40 CFR 1501.6(a), 1508.1(j).

Under NEPA and the CEQ regulations, a Federal agency may establish CEs— categories of actions that the agency has determined normally do not have a significant effect on the human environment, individually or in the aggregate—in its agency NEPA procedures. 42 U.S.C. 4336(e)(1); 40 CFR 1501.4(a), 1507.3(c)(8), 1508.1(e). If an agency determines that a CE established in its agency NEPA procedures covers a proposed action, it then evaluates the proposed action for extraordinary circumstances, which are factors or circumstances that indicate a normally categorically excluded action may have a significant effect. 40 CFR 1501.4(b), 1508.1(o). If an extraordinary circumstance exists, the agency nevertheless may apply the CE if it conducts an analysis and determines that the proposed action does not in fact have the potential to result in significant effects notwithstanding the extraordinary circumstance, or the agency modifies the action to avoid the potential to result in significant effects. 40 CFR 1501.4(b)(1). In these cases, the agency must document such determination. Id. If the agency cannot categorically exclude the proposed action, it will prepare an EA or EIS, as appropriate. 40 CFR 1501.4(b)(2).

On May 1, 2024, CEQ finalized its “Bipartisan Permitting Reform Implementation Rule” to revise its regulations for implementing the procedural provisions of NEPA, including the amendments to NEPA in the Fiscal Responsibility Act. Under the revised regulations, each Federal agency must, by July 1, 2025, develop procedures to implement NEPA and the CEQ regulations, facilitate efficient decision making, and ensure that the agencies make decisions in accordance with the policies and requirements of NEPA. 40 CFR 1507.3. As part of their procedures, agencies must establish CEs and identify extraordinary circumstances. 40 CFR 1507.3(c)(8). When establishing new or revising existing CEs in agency NEPA procedures, agencies must substantiate the proposed new or revised CEs with sufficient information to conclude that each category of actions does not have a significant effect, individually or in the aggregate, on the human environment, and provide this substantiation in a written record that is made publicly available as part of the notice and comment process for developing or revising proposed agency procedures. See 40 CFR 1507.3(b), (c)(8). In developing NEPA procedures, agencies must consult with CEQ and provide an opportunity for public review. 40 CFR 1507.3(b)(1), (2). Before publishing final procedures, agencies must receive a determination from CEQ that the procedures conform with NEPA and the CEQ regulations. See 40 CFR 1507.3(b)(2).

Background

Founded in 1901, NIST's mission is to promote U.S. innovation and industrial competitiveness by advancing measurement science, standards, and technology in ways that enhance economic security and improve our quality of life. Historically, NIST has carried out this mission through operation of the NIST Laboratories, which conduct world-class research, often in close collaboration with industry, that advances the nation's technology infrastructure and helps U.S. companies continually improve products and services.

In August 2022, Congress passed the CHIPS Act of 2022, which amended title XCIX of the William M. (Mac) Thornberry National Defense Authorization Act for Fiscal Year 2021, 15 U.S.C. 4651 et seq., also known as the Creating Helpful Incentives to Produce Semiconductors (CHIPS) for America Act. The law provides the Department of Commerce with $50 billion for a suite of programs to strengthen and revitalize the U.S. position in semiconductor research, development, and manufacturing. The CHIPS for America program encompasses two offices within NIST responsible for implementing the law: the CHIPS Research and Development Office is investing $11 billion into developing a robust domestic semiconductor R&D ecosystem, while the CHIPS Program Office is dedicating $39 billion to provide incentives for investment in semiconductor facilities and equipment in the United States. NIST is uniquely positioned to successfully administer the CHIPS for America program because of the bureau's strong relationships with U.S. industries, its deep understanding of the semiconductor ecosystem, and its reputation as fair and trustworthy.

NEPA may apply to activities conducted by NIST, including on its campuses in Gaithersburg, MD, and Boulder, CO, as well as to activities for which NIST provides financial assistance. NIST's NEPA Procedures are intended to make the NEPA process more useful to both NIST and the public and will serve as a repository for guidance and resources to aid NIST in implementation of NEPA.

As part of its NEPA Procedures, NIST is proposing 18 new CEs and has prepared a substantiation record to support establishment of each CE. The proposed CEs are supported by long-standing CEs and substantiation records that have been developed by other Federal agencies through processes consistent with NEPA regulatory requirements and CEQ guidance on the establishment of CEs. NIST identified existing CEs established by other federal agencies that are sufficiently described in supporting substantiation records to demonstrate that the actions covered by these existing CEs are similar in nature, scope, and impact on the human environment to actions performed by NIST. NIST also reviewed and analyzed other past actions by NIST and other federal agencies, including supporting NEPA documentation, to develop the proposed CEs. The past actions were evaluated to demonstrate that the actions that would be covered by NIST's proposed CEs normally do not have a substantial effect on the human environment, individually or in the aggregate. For a detailed discussion of and substantiation for each proposed CE, please refer to the substantiation record available at https://www.nist.gov/chips/national-environmental-policy-act-nepa.

In this notice, NIST is requesting public comment on its draft NEPA Procedures, including on the 18 new CEs proposed as part of those Procedures, and on the substantiation record supporting those new CEs. To facilitate public comment, NIST is reproducing those 18 proposed CEs in this Notice. Additionally, the Building CHIPS in America Act recently established a number of CEs for use by NIST, which are also reproduced below. The Procedures include an Appendix A that lists all CEs available for use by NIST. NIST has consulted with CEQ on its proposal and is seeking input from the public.

A. Proposed New Categorical Exclusions

I. Administrative Activities

I-1. Preparation, modification, and issuance of policy directives, rules, regulations, procedures, guidelines, guidance documents, bulletins, and informational publications that are of an administrative, financial, legal, technical, or procedural nature, for which the environmental effects are too broad, speculative, or conjectural to lend themselves to meaningful analysis and will be, in whole or part, subject later to the NEPA process, either collectively or on a case-by-case basis.

I-2. Planning, educational, informational, or advisory activities provided to other agencies, public and private entities, visitors, individuals, or the public, including training exercises and simulations conducted under appropriately controlled conditions and in accordance with all applicable laws, regulations, and requirements.

I-3. Preparation and dissemination of scientific results, studies, surveys, audits, reports, plans, papers, recommendations, and technical advice.

I-4. Technical assistance to other Federal, Tribal, State, and local agencies or the public.

I-5. Contracts, collaborative research agreements, cooperative research and development agreements, interagency agreements, and other agreements that do not concern environmental matters or where the environmental effects are negligible.

II. Operations

II-1. Routine procurement, use, storage, transportation, and disposal of non-hazardous goods and services in support of administrative, operational, or maintenance activities in accordance with Executive Orders and Federal procurement guidelines. Examples include office supplies and furniture; equipment; mobile assets (i.e., vehicles, vessels, aircraft); utility services; and deployable emergency response supplies and equipment.

II-2. Routine use of hazardous materials (including procurement, transportation, distribution, and storage of such materials) and reuse, recycling, and disposal of solid, medical, radiological, or hazardous waste in a manner that is consistent with all applicable laws, regulations, and requirements. Examples include use of chemicals for laboratory applications; refueling of storage tanks; temporary storage and disposal of solid waste; disposal of waste through manufacturer return and recycling programs; and hazardous waste minimization activities, including source reduction activities and recycling.

II-3. Maintenance of facilities, equipment, and grounds. Examples include interior utility work, road maintenance, window washing, lawn mowing, landscaping, weed management/maintenance, trash collecting, facility cleaning, and snow removal.

III. Facility Modernization

III-1. Internal modifications, renovations, or additions (e.g., computer facilities, relocating interior walls) to structures or buildings that do not result in a change in the functional use of the property.

* III-2. Exterior renovation, addition, repair, alteration, safety and environmental improvements, and demolition projects affecting buildings, roads, grounds, equipment, and other facilities, including subsequent disposal of debris, which may be contaminated with hazardous materials, lead, or asbestos. Hazardous materials must be disposed of at approved sites in accordance with all applicable laws, regulations, and requirements. These actions do not result in a significant change in the expected useful life, design capacity, or function of the facility and during which operations may be suspended and then resumed, and they do not include rebuilding or modifying substantial portions of a facility (such as replacing a reactor vessel). Examples include the following:

(a) Painting, roofing, siding, or alterations to an existing building;

(b) Adding a small storage shed to an existing building;

(c) Retrofitting for energy and water conservation and efficiency, including weatherization, installation of timers on hot water heaters, installation of energy efficient lighting, and installation of low flow plumbing fixtures.

(d) Closing and demolishing a building not eligible for listing under the National Register of Historic Places; or

(e) Replacement/upgrade of control valves, in-core monitoring devices, facility air filtration systems, or substation transformers or capacitors; addition of structural bracing to meet earthquake standards and/or sustain high wind loading; and replacement of aboveground or belowground tanks and related piping, provided that there is no evidence of leakage, based on testing in accordance with applicable requirements (such as 40 CFR 265, “Interim Status Standards for Owners and Operators of Hazardous Waste Treatment, Storage, and Disposal Facilities” and 40 CFR 280, “Technical Standards and Corrective Action Requirements for Owners and Operators of Underground Storage Tanks”).

(f) Covered actions include, but are not limited to weatherization (such as insulation and replacing windows and doors); programmed lowering of thermostat settings; placement of timers on hot water heaters; installation or replacement of energy efficient lighting, low-flow plumbing fixtures (such as faucets, toilets, and showerheads), heating, ventilation, and air conditioning systems, and appliances; installation of drip-irrigation systems; improvements in generator efficiency and appliance efficiency ratings; efficiency improvements for vehicles and transportation (such as fleet changeout); power storage (such as flywheels and batteries, generally less than 10 megawatt equivalent); transportation management systems (such as traffic signal control systems, car navigation, speed cameras, and automatic plate number recognition); development of energy-efficient manufacturing, industrial, or building practices; and small-scale energy efficiency and conservation research and development and small-scale pilot projects.

* III-3. Minor improvements to existing steam plants and cooling water systems (including, but not limited to, modifications of existing cooling towers and ponds), provided that the improvements would not:

(a) Create new sources of water or involve new receiving waters;

(b) Have the potential to significantly alter water withdrawal rates;

(c) Exceed the permitted temperature of discharged water; or

(d) Increase introductions of, or involve new introductions of, hazardous substances, pollutants, contaminants, or Comprehensive Environmental Response, Compensation, and Liability Act-excluded (CERCLA) petroleum and natural gas products.

* III-4. Installation or relocation and operation of machinery and equipment (including, but not limited to, laboratory equipment, electronic hardware, manufacturing machinery, maintenance equipment, and health and safety equipment), provided that uses of the installed or relocated items are consistent with the general missions of the receiving structure. Covered actions include modifications to an existing building, within or contiguous to a previously disturbed or developed area, that are necessary for equipment installation and relocation. Such modifications would not appreciably increase the footprint or height of the existing building or have the potential to cause significant changes to the type and magnitude of environmental impacts.

IV. Real Property

* IV-1. Acquisition or use of existing facilities or portions thereof by purchase, lease, or use agreement where use or operation will remain unchanged. Examples include acquiring office space through lease, purchase, or use agreement, and acquisition of laboratory space through lease, purchase, or use agreement.

* IV-2. Decisions and actions to close facilities, decommission equipment, or temporarily discontinue use of facilities or equipment, where the facility or equipment, including office equipment, telecommunications equipment, and computer equipment, is not used to prevent or control environmental impacts.

V. Research

* V-1. Proposed new and recurring activities and operations conducted in laboratories and facilities where research practices and safeguards (including but not limited to environmental permits for operation) prevent environmental impacts, would be consistent with previously established safety levels, and would not result in a change in use of the facility. Examples include types of research, development, testing, and evaluation activities, and laboratory operations conducted within existing facilities designed to support research and development activities. Not included in this category are demonstration actions, meaning actions that are undertaken at a scale to show whether a technology would be viable on a larger scale and suitable for commercial deployment.

* V-2. Outdoor research activities conducted in compliance with all applicable laws, regulations, and requirements. Examples include types of research, development, testing, and evaluation activities conducted outdoors where no new ground disturbance occurs and no sensitive resources (e.g., threatened or endangered species, archaeological sites, Tribal resources, wetlands, and waterbodies) are present, such as radar testing, radio noise measurements, and public safety communications research.

VI. Facility Construction

* VI-1. New construction or improvement of buildings or experimental equipment (e.g., trailers, prefabricated buildings, and test slabs) on previously disturbed ground, with no more than 1 acre (0.4 hectare) of ground disturbance in previously disturbed areas, where the proposed facility use is generally compatible with the surrounding land use and applicable zoning standards and will not require additional support infrastructure. Such facilities could be used for indoor small-scale research and development projects and small-scale pilot projects using nanoscale materials in accordance with applicable requirements (such as engineering, worker safety, procedural, and administrative regulations) necessary to ensure the containment of any hazardous materials.

VII. Federal Assistance

VII-1. Actions related to financial assistance administration performed at any stage during the financial assistance lifecycle, such as the development and issuance of guidance; announcements of availability of funds; project reviews for program eligibility; provision of technical assistance; conducting inspections, financial audits, and monitoring activities; development of information technology systems for financial assistance management; close-out activities; and actions taken in situations where an awardee is in non-conformance with program requirements, such as disallowances, recoupment of funds, and debarment.

CEs labeled with an asterisk (*) require documentation in accordance with NIST's NEPA Procedures.

B. Categorical Exclusions Established by 15 U.S.C. 4652(d)(1)

Each of the following categorical exclusions was established for the National Institute of Standards and Technology with respect to a covered activity, defined as any activity relating to the construction, expansion, or modernization of a facility, the investment in which is eligible for Federal financial assistance under 15 U.S.C. 4652 or 4656, and is available for use by the Secretary:

A. Categorical exclusion 17.04.d (relating to the acquisition of machinery and equipment) in the document entitled `EDA Program to Implement the National Environmental Policy Act of 1969 and Other Federal Environmental Mandates As Required' (Directive No. 17.02-2; effective date October 14, 1992).

• EDA (d). Acquisition of machinery and equipment (M&E) unless these require applications for or amendments to existing air, water or solid waste permits.

B. Categorical exclusion A9 in Appendix A to subpart D of part 1021 of title 10, Code of Federal Regulations, or any successor regulation.

• DOE A9. Information gathering (including, but not limited to, literature surveys, inventories, site visits, and audits), data analysis (including, but not limited to, computer modeling), document preparation (including, but not limited to, conceptual design, feasibility studies, and analytical energy supply and demand studies), and information dissemination (including, but not limited to, document publication and distribution, and classroom training and informational programs), but not including site characterization or environmental monitoring. (See also B3.1 of appendix B to this subpart.)

C. Categorical exclusions B1.24, B1.31, B2.5, and B5.1 in Appendix B to subpart D of part 1021 of title 10, Code of Federal Regulations, or any successor regulation.

• DOE B1.24. Transfer, lease, disposition, or acquisition of interests in personal property (including, but not limited to, equipment and materials) or real property (including, but not limited to, permanent structures and land), provided that under reasonably foreseeable uses (1) there would be no potential for release of substances at a level, or in a form, that could pose a threat to public health or the environment and (2) the covered actions would not have the potential to cause a significant change in impacts from before the transfer, lease, disposition, or acquisition of interests.

• DOE B1.31. Installation or relocation and operation of machinery and equipment (including, but not limited to, laboratory equipment, electronic hardware, manufacturing machinery, maintenance equipment, and health and safety equipment), provided that uses of the installed or relocated items are consistent with the general missions of the receiving structure. Covered actions include modifications to an existing building, within or contiguous to a previously disturbed or developed area, that are necessary for equipment installation and relocation. Such modifications would not appreciably increase the footprint or height of the existing building or have the potential to cause significant changes to the type and magnitude of environmental impacts.

• DOE B2.5. Safety and environmental improvements of a facility (including, but not limited to, replacement and upgrade of facility components) that do not result in a significant change in the expected useful life, design capacity, or function of the facility and during which operations may be suspended and then resumed. Improvements include, but are not limited to, replacement/upgrade of control valves, in-core monitoring devices, facility air filtration systems, or substation transformers or capacitors; addition of structural bracing to meet earthquake standards and/or sustain high wind loading; and replacement of aboveground or belowground tanks and related piping, provided that there is no evidence of leakage, based on testing in accordance with applicable requirements (such as 40 CFR part 265, “Interim Status Standards for Owners and Operators of Hazardous Waste Treatment, Storage, and Disposal Facilities” and 40 CFR part 280, “Technical Standards and Corrective Action Requirements for Owners and Operators of Underground Storage Tanks”). These actions do not include rebuilding or modifying substantial portions of a facility (such as replacing a reactor vessel).

• DOE. B5.1. (a) Actions to conserve energy or water, demonstrate potential energy or water conservation, and promote energy efficiency that would not have the potential to cause significant changes in the indoor or outdoor concentrations of potentially harmful substances. These actions may involve financial and technical assistance to individuals (such as builders, owners, consultants, manufacturers, and designers), organizations (such as utilities), and governments (such as state, local, and tribal). Covered actions include, but are not limited to weatherization (such as insulation and replacing windows and doors); programmed lowering of thermostat settings; placement of timers on hot water heaters; installation or replacement of energy efficient lighting, low-flow plumbing fixtures (such as faucets, toilets, and showerheads), heating, ventilation, and air conditioning systems, and appliances; installation of drip-irrigation systems; improvements in generator efficiency and appliance efficiency ratings; efficiency improvements for vehicles and transportation (such as fleet changeout); power storage (such as flywheels and batteries, generally less than 10 megawatt equivalent); transportation management systems (such as traffic signal control systems, car navigation, speed cameras, and automatic plate number recognition); development of energy-efficient manufacturing, industrial, or building practices; and small-scale energy efficiency and conservation research and development and small-scale pilot projects. Covered actions include building renovations or new structures, provided that they occur in a previously disturbed or developed area. Covered actions could involve commercial, residential, agricultural, academic, institutional, or industrial sectors.

D. The categorical exclusions described in paragraphs (4) and (13) of section 50.19(b) of title 24, Code of Federal Regulations, or any successor regulation.

• HUD a(4). Public services that will not have a physical impact or result in any physical changes, including but not limited to services concerned with employment, crime prevention, child care, health, drug abuse, education, counseling, energy conservation and welfare or recreational needs.

• HUD a(13). Operating costs including maintenance, security, operation, utilities, furnishings, equipment, supplies, staff training and recruitment and other incidental costs; however, in the case of equipment, compliance with § 50.4(b)(1) is required.

E. Categorical exclusion (c)(1) in Appendix B to part 651 of title 32, Code of Federal Regulations, or any successor regulation.

• Army (c)(1). Construction of an addition to an existing structure or new construction on a previously undisturbed site if the area to be disturbed has no more than 5.0 cumulative acres of new surface disturbance. This does not include construction of facilities for the transportation, distribution, use, storage, treatment, and disposal of solid waste, medical waste, and hazardous waste.

F. Categorical exclusions A2.3.8 and A2.3.14 in Appendix B to part 989 of title 32, Code of Federal Regulations, or any successor regulation.

• USAF A2.3.8. Performing interior and exterior construction within the 5-foot line of a building without changing the land use of the existing building.

• USAF A2.3.14. Installing on previously developed land, equipment that does not substantially alter land use (i.e., land use of more than one acre). This includes outgrants to private lessees for similar construction.

Extraordinary Circumstances

NIST has identified a list of extraordinary circumstances in its draft NEPA Procedures. If NIST determines that a CE is appropriate for a proposed action, NIST must also evaluate the proposed action for the presence of extraordinary circumstances. 40 CFR 1501.4(b). Extraordinary circumstances are situations for which NIST has determined that further NEPA analysis may be required because they are circumstances in which a categorically excluded action may have significant effects. The mere presence of one or more extraordinary circumstances does not preclude the use of a CE. A determination of whether an action that is categorically excluded requires additional evaluation because of extraordinary circumstances focuses on the action's potential effects and considers the significance of those effects in terms of the context (the potentially affected region, interests, and resources) and the intensity (the degree or severity of the effects) of the action. Before applying a CE, NIST must consider whether the proposed action involves one or more of the following extraordinary circumstances:

1. The action has potential to adversely affect human health or safety;

2. The action is located in or may affect an area with unique environmental characteristics, such as historic or cultural resources; park, recreation or refuge lands; wilderness areas; wild or scenic rivers; national natural landmarks; sole or principal drinking water aquifers; prime farmlands; wetlands (E.O. 11990); floodplains (E.O. 11988); national monuments; and other ecologically significant or critical areas;

3. The action may affect a species that is listed, or proposed to be listed, as threatened or endangered under the Endangered Species Act (ESA), or is located in the habitat of such a species;

4. The action has the potential to affect properties that are listed or eligible for listing on the National Register of Historic Places;

5. The action has the potential to affect lands owned by or held in trust for a Federally recognized Tribe;

6. The action has the potential to restrict access to and ceremonial use of Indian sacred sites on Federal lands by Indian religious practitioners or significantly adversely affect the physical integrity of such sacred sites (E.O. 13007);

7. The action has the potential to have a disproportionate and adverse effect on communities with environmental justice concerns (E.O. 14096);

8. The action has the potential to violate a Federal, State, Tribal, or local law or requirement imposed for protection of the environment;

9. The action involves unresolved conflicts concerning alternative uses of available resources;

10. The action has highly uncertain and potentially significant environmental effects or involves unique or unknown environmental risks;

11. The action has the potential to establish a precedent for future action or represents a decision in principle about future actions with potentially significant environmental effects; or

12. The action has the potential for significant cumulative impacts when the proposed action is combined with other past, present and reasonably foreseeable future actions, even though the impacts of the proposed action may not be significant by themselves.

For CEs that NIST has adopted from other Federal agencies under Section 109 of NEPA, NIST will consider extraordinary circumstances in the manner described in the Federal Register notice announcing the adoption. This process may require considering extraordinary circumstances identified by the agency that developed the CE in that agency's NEPA implementing procedures.

If NIST determines that an extraordinary circumstance exists, NIST may nonetheless determine that a CE is appropriate for the proposed action if NIST conducts an analysis and determines that the proposed action does not in fact have the potential to result in significant effects notwithstanding the extraordinary circumstance or modifies the action to avoid the potential to result in significant effects. In such cases, NIST will document the determination and make it publicly available on a NIST website or through other means.

Documenting the Use of a CE

Some activities, such as routine personnel actions or purchases of small amounts of supplies, may carry no risk of significant environmental effects, such that there is no benefit from preparing additional documentation when applying a CE to those activities. NIST must, however, prepare a separate document to evaluate the applicability of a CE in each of the following cases:

1. For any application of a CE designated by NIST as requiring documentation, as indicated by an asterisk in the list of proposed new CEs;

2. For any application of a CE adopted from another Federal agency under Section 109 of NEPA; and

3. For any case in which NIST determines that a CE is appropriate notwithstanding the existence of an extraordinary circumstance.

Such documentation must include the following:

(a) a description of the proposed action;

(b) the CE category number, title, and CE text that applies to the action;

(c) a brief summary of the agency's rationale for determining that the proposed action is consistent with the terms of the CE, including a description of how the action complies with any limitations in the CE (e.g., surface disturbance limitations);

(d) a brief summary of the agency's review of the extraordinary circumstances (or, where applicable, the extraordinary circumstances identified by the agency that developed a CE adopted by NIST under Section 109 of NEPA); and

(e) where the agency has determined that one or more extraordinary circumstance exists, the rationale for the agency's determination that the proposed action does not in fact have the potential to result in significant effects notwithstanding the extraordinary circumstance, or a description of the modifications that NIST has made to the action to avoid the potential to result in significant effects.

The document may take the form of a memorandum, a completed form, or other similar document, so long as the above components are included. Before the action is implemented, NIST must sign and date the document to indicate that use of the CE is appropriate. NIST must keep the original, signed document as part of the record for the action.

Request for Comments

NIST requests comments from the public on its draft NEPA Procedures and its proposal to establish new CEs. The agency will consider input from the public and consult with CEQ for a conformity determination before finalizing its proposal.

Alicia Chambers,
NIST Executive Secretariat.

[FR Doc. 2024-29088 Filed 12-10-24; 8:45 am]

BILLING CODE 3510-13-P